SMALL BUSINESS ADMINISTRATION

Reporting and Recordkeeping Requirements Under OMB Review

AGENCY: U.S. Small Business Administration.

ACTION: 30-Day notice.

SUMMARY: The Small Business Administration (SBA) is seeking approval from the Office of Management and Budget (OMB) for the information collection described below. In accordance with the Paperwork Reduction Act and OMB procedures, SBA is publishing this notice to allow all interested members of the public an additional 30 days to provide comments on the proposed collection of information.

DATES: Submit comments on or before January 5, 2026.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Interim Agency Clearance Officer at Shaunice.Carter@sba.gov; (202) 921-2198, or from www.reginfo.gov/public/do/PRAMain.

SUPPLEMENTARY INFORMATION: On August 7, 2025, President Donald J. Trump issued the Executive Order entitled: “Guaranteeing Fair Banking for All Americans” (the “Fair Banking Executive Order”) instructing the SBA, along with federal banking regulators, to end the practice of politicized or unlawful debanking—the practice where banks and financial services providers, both independently and at the direction of federal regulators, freeze or close accounts, deny loans, and refuse services to politically disfavored people and businesses. This information collection is necessary to evidence SBA Lender compliance with this Executive Order.

Solicitation of Public Comments: Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: To be assigned by OMB.

Title: Guaranteeing Fair Banking for All Americans Executive Order Reporting.

Description of Respondents: SBA Lenders.

Total Estimated Annual Responses: 5,000.

Total Estimated Annual Hour Burden: 3,875 hours.

Alethea Ten Eyck-Sanders,
Interim Agency Clearance Officer.

[FR Doc. 2025-22013 Filed 12-4-25; 8:45 am]

BILLING CODE 8026-09-P